ENVIRONMENTAL PROTECTION AGENCY

[ER-FRL-9040-7]

Environmental Impact Statements; Notice of Availability

Responsible Agency: Office of Federal Activities, General Information (202) 564-7156 or https://www2.epa.gov/nepa/.

Weekly receipt of Environmental Impact Statements

Filed 07/30/2018 Through 08/03/2018

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20180177, Draft, USCG, AK, Coast Guard Polar Icebreaker Acquisition Program, Comment Period Ends: 09/24/2018, Contact: Christine Wiegand 202-475-3742.

EIS No. 20180178, Draft, NHTSA, REG, Draft EIS for The Safer Affordable Fuel-Efficient (SAFE) Vehicles Rule for Model Year 2021-2026 Passenger Cars and Light Trucks, Comment Period Ends: 09/24/2018, Contact: Ken Katz 202-366-4936.

EIS No. 20180179, Final Supplement, USACE, WA, Mount St. Helens Long-Term Sediment Management Plan, Review Period Ends: 09/10/2018, Contact: Mike Turaski, Project Manager 503-808-4704.

EIS No. 20180180, Draft, BLM, CA, Desert Quartzite Solar Project Draft Plan Amendment, Environmental Impact Statement and Environmental Impact Report, Comment Period Ends: 11/08/2018, Contact: Brandon G. Anderson 760-833-7140.

Dated: August 7, 2018.
Robert Tomiak,
Director, Office of Federal Activities.

[FR Doc. 2018-17135 Filed 8-9-18; 8:45 am]

BILLING CODE 6560-50-P